DEPARTMENT OF THE INTERIOR

Bureau of Land Management

[NV-930-4210-05; N-59080, N-6721]

Notice of Realty Action: Partial Transfer of Patent/Change of Use for Recreation and Public Purposes

AGENCY: Bureau of Land Management.

ACTION: Recreation and public purpose partial transfer of patent/change of use.

SUMMARY: The following described public land in Las Vegas, Clark County, Nevada was patented to the Clark County School District for recreational or public purposes under the provisions of the Recreation and Public Purposes Act, as amended (43 U.S.C. 869 et seq.) in Patent #27-73-0067 (N-6721), dated May 11, 1973. The City of Las Vegas, a qualified recreation and public purpose holder, proposes to develop the transferred land as a public park according to the plan of development for case file #N-59080. The school district wishes to transfer a portion of this patented land to the City of Las Vegas. The change of use will be from a public school to a public park.

Mount Diablo Meridian, Nevada

T. 21 S., R. 60 E., sec 2, SW¼NE¼SW¼

Containing 10 acres, more or less.

The land is not required for any federal purpose. The partial transfer of patent/change of use is consistent with current Bureau planning for this area and would be in the public interest. The patent, when transferred, will be subject to the provisions of the Recreation and Public Purposes Act and applicable regulations of the Secretary of the Interior, and will contain the following reservations to the United States, as detailed in the original patent: and will be subject to:

1. An easement 30 feet in width along the south boundary; and an easement 30 feet in width along the west boundary in favor of the City of Las Vegas for roads, public utilities and flood control purposes.

Detailed information concerning this action is available for review at the office of the Bureau of Land Management, Las Vegas Field Office, 4701 N. Torrey Pines Drive, Las Vegas, Nevada. For a period of 45 days from the date of publication of this notice in the Federal Register, interested parties may submit comments regarding the proposed partial transfer of patent/change of use for classification of the lands to the Field Manager, 4701 N. Torrey Pines Drive, Las Vegas Field Office, Las Vegas, Nevada 89130.

Classification Comments: Interested parties may submit comments involving the suitability of the land for a public park. Comments on the classification are restricted to whether the land is physically suited for the proposal, whether the use will maximize the future use or uses of the land, whether the use is consistent with local planning and zoning, or if the use is consistent with State and Federal programs.

Application Comments: Interested parties may submit comments regarding the specific use proposed in the application and plan of development, whether the BLM followed proper administrative procedures in reaching the decision, or any other factor not directly related to the suitability of the land for a public park.

Any adverse comments will be reviewed by the State Director.

In the absence of any adverse comments, the classification of the land described in this Notice will become effective 60 days from the date of publication in the Federal Register. The lands will not be offered for patent transfer until after the classification becomes effective.

Dated: October 22, 2002.
Rex Wells,
Assistant Field Manager, Division of Lands, Las Vegas, NV.

[FR Doc. 02-32188 Filed 12-20-02; 8:45 am]

BILLING CODE 4510-HC-P